DEPARTMENT OF ENERGY

Notice of Availability of Solicitation

AGENCY: Idaho Operations Office, Department of Energy.

ACTION: Notice of availability of solicitation-alternate fuel vehicle user infrastructure.

SUMMARY: The U.S. Department of Energy (DOE), Idaho Operations Office (ID), is seeking applications from interested parties to develop and deploy cost-shared alternative fuel infrastructure projects in any of the six Federal Alternate Fuel Vehicle (AFV) USER Program Metropolitan Statistical Area (MSA's) (cities). The six MSA's are San Francisco, CA, Denver, CO, Albuquerque, NM, Minneapolis, MN, Salt Lake City, UT, and Melborne-Titusville, FL. The proposing teams must have the ability to deploy alternative fuel infrastructure projects, in one or more, of the six MSAs, primarily for the use of alternate fuel vehicles in federal fleets; and secondly for state and local government fleets, commercial fleets, and alternative fuel vehicles owned and operated by the public. These projects will aid in the removal of the “infrastructure availability” barrier to alternative fuel use, thereby supporting the marketability of alternative fuel vehicles. Projects that are already built do not qualify for this grant. The expected issuance date of Solicitation No. DE-PS07-00ID13951, is June 22, 2000. The solicitation will be available in its full text via the Internet at the following URL: http://www.id.doe.gov/doeid/PSD/proc-div.html.

DATES: The deadline for receipt of applications will be August 24, 2000.

ADDRESSES: Applications should be submitted to: Procurement Services Division, U.S. Department of Energy, Idaho Operations Office, Attention: Connie Osborne, [DE-PS07-00ID13951], 850 Energy Drive, MS-1221, Idaho Falls, Idaho 83401-1563.

FOR FURTHER INFORMATION CONTACT: Connie Osborne, Contract Specialist, at osbornch@id.doe.gov

SUPPLEMENTARY INFORMATION: The statutory authority for this program is Energy Policy Act of 1992 (Public Law 102-486 as amended by Public Law 103-437 on November 2, 1994). DOE anticipates making up to 6 awards with a total estimated DOE funding of $100,000 per award, each with a duration of two years or less. Multi-partner collaborations including Federal Agencies and/or National Laboratories are encouraged. Single organizations will not be considered. As a minimum each applicant's team must include an energy provider (i.e., electric utility, natural gas utility, or other) as a participant. This solicitation will require a fifty per cent (50%) minimum non-federal cost share. Federal Agencies and/or National Laboratories will not be eligible for an award under this solicitation, except as a partner with another, eligible primary applicant. However, an application that includes performance of a portion of the work by a National Laboratory may be considered for award provided the applicant clearly identifies the unique capabilities, facilities and or expertise the Laboratory offers the primary applicant. It is anticipated that the following criteria will be considered in the evaluation: (1) Suitability of Alternative Fuel Infrastructure; (2) Level of Project Detail provided; (3) Experience of Team; (4) Costs. Technical and non-technical questions should be submitted in writing to Connie Osborne by e-mail at osbornch@id.doe.gov, or facsimile at 208-526-5548 no later than July 13, 2000.

Issued in Idaho Falls on June 22, 2000.
R. Jeffrey Hoyles,
Director, Procurement Services Division.

[FR Doc. 00-16047 Filed 6-23-00; 8:45 am]

BILLING CODE 6450-01-P